DEPARTMENT OF ENERGY

Federal Energy Regulatory Commission

[Docket No. CP00-451-000]

Texas-Ohio Pipeline, Inc.; Notice of Application

September 8, 2000.

Take notice that on August 31, 2000, Texas-Ohio Pipeline, Inc. (Texas-Ohio), 1331 Seventeenth Street, Suite 601, Denver Colorado 80202, filed in Docket No. CP00-419-000 an application pursuant to Section 7(b) of the Natural Gas Act for permission and approval to abandon all of its remaining jurisdictional facilities and services, all as more fully set forth in the application on file with the Commission and open to public inspection. This filing may be viewed on the web at http://www.ferc.fed.us/online/htm (call 202-208-2222 for assistance).

Texas-Ohio proposes to abandon in place or by removal all of its remaining jurisdictional facilities in Garrard County, Kentucky including 600 feet of above-ground 10-inch pipeline, related values and piping and appurtenant facilities. It is stated that it received authorization in Docket No. CP00-419-000 to abandon a rental compressor unit. Texas-Ohio indicates that it has had no contracts for firm service since 1997 and that requests for interruptible service has been insignificant for more than three years. Texas-Ohio states that its facilities interconnected the facilities of Tennessee Gas Pipeline Company (Tennessee) and Texas Eastern Transmission Corporation (Texas Eastern) to eliminate bottlenecks on their respective systems. It is now indicated that that in 1998, Tennessee placed into operation an interconnecting facility with Texas Eastern which would further eliminate any further markets for Texas-Ohio's facilities. Accordingly, Texas-Ohio requests abandonment of its currently-effective Part 157 certificate and its Part 284 transportation certificate.

Any questions regarding the application should be directed to James D. Albright, Associate General Counsel of Xcel Energy Services, Inc., at (303) 294-2753.

Any person desiring to be heard or to make any protest with reference to said application should on or before September 29, 2000, file with the Federal Energy Regulatory Commission, 888 First Street, NE, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if not motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Texas-Ohio to appear or be represented at the hearing.

David P. Boergers,
Secretary.

[FR Doc. 00-23595 Filed 9-13-00; 8:45 am]

BILLING CODE 6717-01-M